DEPARTMENT OF DEFENSE

Office of the Secretary

[Transmittal No. 20-33]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-33 with attached Policy Justification and Sensitivity of Technology.

Dated: August 12, 2020.
Aaron T. Siegel,
Alternate OSD Federal Register Liaison Officer, Department of Defense.

BILLING CODE 5001-06-P

BILLING CODE 5001-06-C

Transmittal No. 20-33

Notice of Proposed Issuance of Letter of Offer Pursuant to Section 36(b)(1) of the Arms Export Control Act, as amended

(i) Prospective Purchaser: Government of the Netherlands

(ii) Total Estimated Value:

Major Defense Equipment * | $38.0 million
Other | $ 1.0 million
TOTAL | $39.0 million

(iii) Description and Quantity or Quantities of Articles or Services under Consideration for Purchase:

Major Defense Equipment (MDE):

Sixteen (16) AIM-120C-8 Advanced Medium-Range Air-to-Air Missiles (AMRAAM)

Non-MDE:

Also included are containers, weapon systems support and support equipment, spare and repair parts, publications and technical documentation, U.S. Government and contractor engineering, logistics, and technical support services, and other related elements of logistics and program support

(iv) Military Department: Air Force (NE-D-YAG)

(v) Prior Related Cases, if any: NE-D-YAE

(vi) Sales Commission, Fee, etc., Paid, Offered, or Agreed to be Paid: None

(vii) Sensitivity of Technology Contained in the Defense Article or Defense Services Proposed to be Sold: See Attached Annex

(viii) Date Report Delivered to Congress: July 27, 2020

*As defined in Section 47(6) of the Arms Export Control Act.

POLICY JUSTIFICATION

The Netherlands - AIM-120C-8 Advanced Medium Range Air-to-Air Missile (AMRAAM)

The Government of the Netherlands has requested to buy sixteen (16) AIM-120C-8 Advanced Medium Range Air-to-Air Missiles (AMRAAM). Also included are containers, weapon systems support and support equipment, spare and repair parts, publications and technical documentation, U.S. Government and contractor engineering, logistics, and technical support services, and other related elements of logistics and program support. The total estimated program cost is $39 million.

This proposed sale will support the foreign policy and national security of the United States by helping to improve security of a NATO ally which is an important force for political stability and economic progress in Northern Europe.

The proposed sale will improve the Netherlands' capability to meet current and future threats by deterring regional threats, strengthen its homeland defense, and enable interoperability and standardization between the armed forces of the Netherlands and the United States. The Netherlands, which already maintains AMRAAM missiles, will have no difficulty absorbing this equipment and support into its armed forces.

The proposed sale of this equipment and support will not alter the basic military balance in the region.

The principal contractor will be Raytheon Missiles & Defense, Tucson, AZ. There are no known offset agreements proposed in connection with this potential sale.

Implementation of this proposed sale will not require the assignment of any additional U.S. Government or contractor representatives to the Netherlands.

There will be no adverse impact on U.S. defense readiness as a result of this proposed sale.

Transmittal No. 20-33

Notice of Proposed Issuance of Letter of Offer

Pursuant to Section 36(b)(1) of the Arms Export Control Act

Annex

Item No. vii

(vii) Sensitivity of Technology:

1. The AIM-120C-8 Advance Medium Range Air-to-Air Missile (AMRAAM) is a supersonic, air launched, aerial intercept, guided missile featuring digital technology and micro-miniature solid-state electronics. AMRAAM capabilities include look-down/shoot-down, multiple launches against multiple targets, resistance to electronic countermeasures, and interception of high- and low-flying and maneuvering targets. The AIM-120C-8 is a form, fit, function refresh of the AIM-120C-7 and is the next generation to be produced.

2. The highest level of classification of information included in this potential sale is SECRET.

3. If a technologically advanced adversary were to obtain knowledge of the hardware and software elements, the information could be used to develop countermeasures or equivalent systems which might reduce system effectiveness or be used in the development of a system with similar or advanced capabilities.

4. A determination has been made that the Netherlands can provide substantially the same degree of protection for the technology being released as the U.S. Government. This potential sale is necessary in furtherance of the U.S. foreign policy and national security objectives as outlined in the Policy Justification.

5. All defense articles and services listed in this transmittal have been authorized for release and export to the Netherlands.

[FR Doc. 2020-18473 Filed 8-21-20; 8:45 am]

BILLING CODE 5001-06-P